DEPARTMENT OF THE INTERIOR

Bureau of Land Management

[LLNVE03000 L5110000.GN0000LVEMF1301550 241A; NVN-091032; 14-08807; MO# 4500070050]

Notice of Availability of the Final Environmental Impact Statement for the Long Canyon Mine Project, Elko County, NV

AGENCY: Bureau of Land Management, Interior.

ACTION: Notice.

SUMMARY: In accordance with the National Environmental Policy Act of 1969, as amended, and the Federal Land Policy and Management Act of 1976, as amended, the Bureau of Land Management (BLM) has prepared a Final Environmental Impact Statement (FEIS) for the Long Canyon Mine Project and by this notice is announcing its availability.

DATES: The BLM will not issue a final decision on the proposal for a minimum of 30 days from the date that the Environmental Protection Agency publishes its notice in the Federal Register.

ADDRESSES: Copies of the FEIS for the Long Canyon Mine Project are available for public inspection at the BLM Elko District Office. Interested persons may also review the FEIS on the Internet at www.blm.gov/rv5c.

FOR FURTHER INFORMATION CONTACT: For further information contact Whitney Wirthlin, Project Manager; telephone: 775-861-6400; address: 1340 Financial Blvd., Reno, NV 89502; email: BLM_NV_ELDOLongCanyonMine@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Newmont Mining Corporation (Newmont) proposes to construct and operate an open-pit gold mining operation, which would include one open pit, a heap leach pad, one waste rock dump, a tailings storage facility, a natural gas pipeline from the existing Ruby Pipeline, an onsite power generation plant, and other ancillary facilities. The mine would be located on the eastern side of the Pequop Mountain Range, about 30 miles east of Wells, Nevada, and 32 miles west of West Wendover, Nevada, and 5 miles south of Interstate 80. Currently, Fronteer Development (Fronteer), a subsidiary of Newmont, is authorized to disturb up to 115 acres for exploration purposes. The associated disturbance for the proposed operations would increase to 1,631 acres of public land, including 480 acres of split estate lands of Federal surface and private subsurface. The projected life of the mine is 8 to 14 years, including construction, operations, and closure and post-closure monitoring. An estimated annual workforce for operations would be approximately 300 to 500 people during the life of the mine.

Fronteer is currently conducting exploration activities in this area which were analyzed in two environmental assessments (EA), the NewWest Gold USA Inc. Long Canyon Exploration Project (July 2008, EA No. BLM/EK/PL-2008/011) and Fronteer Development (USA) Inc. Expanded Long Canyon Exploration Project (June 2011, DOI-BLM-NV-N030-2011-00001-EA). The proposed Long Canyon Mine is in conformance with the Wells Resource Management Plan (RMP) and the proposal is in conformance with the approved decisions of the RMP.

The FEIS describes and analyzes the proposed project site-specific impacts (including cumulative) on all affected resources. Two alternatives are analyzed: the North Facilities Alternative and the No Action Alternative. The North Facilities Alternative was designed in response to several environmental issues raised by scoping comments. Under the North Facilities Alternative, most of the mine facilities would be moved to the northern portion of the project area. This alternative addresses impacts to several wildlife species, cultural resources, and responds to requests from the cities of West Wendover, Nevada and Wendover, Utah related to potential impacts to their water supply.

Six other alternatives were considered but eliminated from further analysis. Mitigation measures are considered to minimize environmental impacts and to assure the proposed action does not result in unnecessary or undue degradation of public lands.

The Draft EIS for the Long Canyon Mine Project was published and available for review on March 21, 2014 (79 FR 15773). A 45-day comment period occurred. The BLM received a total of 34 written comment submissions containing 105 individual items during the public comment period on the Draft EIS. The comments the BLM received were submitted by Federal and State agencies as well as members of the general public. Key issues raised during the public comment period include: Potential impacts to water resources utilized by the cities of West Wendover, NV and Wendover, UT, including the Johnson Springs system; potential impacts to visual resources, air quality, cultural resources and the Hastings Cutoff of the California National Historic Trail, the mule deer migration corridor, and wetland and riparian resources; and potential positive impacts to local communities.

The BLM has prepared the Final EIS in conjunction with its eight Cooperating Agencies: Nevada Department of Wildlife, Elko County, City of Elko, City of West Wendover, City of Wendover, Utah; the Confederated Tribes of the Goshute Indian Reservation, the Nevada Division of Environmental Protection, and the Environmental Protection Agency. Comments on the Draft EIS received from the public and internal BLM review were considered and incorporated as appropriate into the FEIS. Public comments resulted in the addition of clarifying text, but did not significantly change the analysis.

Following a 30-day FEIS availability and review period, a Record of Decision (ROD) will be issued. The decision reached in the ROD is subject to appeal to the Interior Board of Land Appeals. The 30-day appeal period begins with the issuance of the ROD.

Authority: 40 CFR 1506.6; 40 CFR 1506.10.

Bryan K. Fuell,
Field Manager, Wells Field Office.

[FR Doc. 2015-00067 Filed 1-8-15; 8:45 am]

BILLING CODE 4310-HC-P